NATIONAL LABOR RELATIONS BOARD

Appointments of Individuals To Serve as Members of Performance Review Boards

5 U.S.C. 4314 (c) (4) requires that the appointments of individuals to serve as members of performance review boards be published in the Federal Register. Therefore, in compliance with this requirement, notice is hereby given that the individuals whose names and position titles appear below have been appointed to serve as members of performance review boards in the National Labor Relations Board for the rating year beginning October 1, 2011 and ending September 30, 2012.

Name and Title

William B. Cowen—Solicitor.

Kathleen A. Nixon—Deputy Chief Counsel to the Chairman.

Gary W. Shinners—Deputy Executive Secretary.

Robert Schiff—Executive Assistant to the Chairman.

Barry J. Kearney—Associate General Counsel, Division of Advice.

Anne G. Purcell—Associate General Counsel, Division of Operations Management.

Linda Dreeben—Deputy Associate General Counsel, Division of Enforcement Litigation.

John H. Ferguson—Associate General Counsel, Division of Enforcement Litigation.

Washington, DC By Direction of the Board.
Dated: December 20, 2012.
Lester A. Heltzer,
Executive Secretary.

[FR Doc. 2012-31112 Filed 12-26-12; 8:45 am]

BILLING CODE P